ENVIRONMENTAL PROTECTION AGENCY

[FRL-7564-1]

IRIS Needs Assessment

AGENCY: Environmental Protection Agency.

ACTION: Notice of availability.

SUMMARY: This notice announces the availability of a report titled, Needs Assessment for U.S. EPA's Integrated Risk Information System (EPA/635/R-02/004), prepared by the U.S. Environmental Protection Agency's (EPA) Office of Research and Development, National Center for Environmental Assessment (NCEA). The purpose of this report is to characterize the needs of users for new or updated health effect assessments provided on the Integrated Risk Information System (IRIS) data base.

ADDRESSES: The document is available electronically on the IRIS Web site at www.epa.gov/iris, under the What's New menu. A limited number of paper copies are available through the IRIS Hotline, c/o ASRC, 6301 Ivy Lane, Suite 300, Greenbelt, MD 20770; Telephone: 301-345-2870, E-mail: hotline.iris@epa.gov. Please provide your name and mailing address and the title and EPA number of the requested publication.

FOR FURTHER INFORMATION CONTACT: For further information on the IRIS Needs Assessment, please contact the IRIS Hotline, c/o ASRC, 6301 Ivy Lane, Suite 300, Greenbelt, MD 20770; telephone: 301-345-2870, E-mail: hotline.iris@epa.gov, or Susan Rieth, National Center for Environmental Assessment (8601D), U.S. Environmental Protection Agency, 1200 Pennsylvania Ave, NW., Washington, DC 20460-0001; Telephone: 202-564-1532, Facsimile: 202-565-0075; E-mail: rieth.susan@epa.gov.

SUPPLEMENTARY INFORMATION: The EPA's IRIS is a data base containing Agency consensus scientific positions on potential adverse health effects that may result from chronic (or lifetime) exposure to chemical substances found in the environment. The IRIS data base contains qualitative and quantitative health effects information for more than 500 chemical substances in support of the first two steps of the risk assessments process, i.e., hazard identification and dose-response evaluation. The information in IRIS is used in combination with site- or situation-specific exposure information to develop estimates of potential public health risk.

In October 2000, the U.S. Senate Appropriations Committee requested that EPA conduct a needs assessment, with public input, to determine whether the current annual rate of updating the existing IRIS files should be increased and to assess the extent of need for information on chemicals not now included. EPA's needs assessment report responds to the Senate's request by summarizing the needs expressed by EPA and the public for new and updated IRIS files, and discussing general approaches to meeting those needs.

Dated: September 17, 2003.
Peter W. Preuss,
Director, National Center for Environmental Assessment.

[FR Doc. 03-24408 Filed 9-25-03; 8:45 am]

BILLING CODE 6560-50-P